DEPARTMENT OF JUSTICE

[AAG/A Order No. 030-2007]

Privacy Act of 1974; System of Records

Pursuant to the Privacy Act of 1974 (5 U.S.C. 552a), notice is given that the Department of Justice (DOJ), Justice Management Division (JMD), proposes to modify, in part, a system of records entitled “Department of Justice Payroll System, Justice/JMD-003,” last published in full text on January 2, 2004, at 69 FR 107-109 and amended on January 25, 2007, at 72 FR 3410. The Department is making administrative changes, including the addition of the Federal Bureau of Investigation (FBI) to the payroll system, and updating the applicable routine uses.

In accordance with 5 U.S.C. 552a(e)(4) and (11) the public is given a 30-day period in which to comment; and the Office of Management and Budget (OMB), which has oversight responsibility under the Privacy Act, requires a 40-day period in which to conclude its review of the system. Therefore, please submit any comments by October 22, 2007. The public, OMB and the Congress are invited to submit any comments to Joo Chung, Counsel, Privacy and Civil Liberties Office, Office of the Deputy Attorney General, 950 Pennsylvania Ave., NW., Washington, DC 20530, facsimile number 202-616-9627.

In accordance with 5 U.S.C. 552a(r), the Department has provided a report to OMB and the Congress.

Dated: September 4, 2007.
Lee J. Lofthus,
Assistant Attorney General for Administration.

JUSTICE/JMD-003

SYSTEM NAME:

Department of Justice Payroll System, Justice/JMD-003.

* * * * *

CATEGORIES OF INDIVIDUALS COVERED BY THE SYSTEM:

Current and former DOJ employees.

* * * * *

ROUTINE USES OF RECORDS MAINTAINED IN THE SYSTEM, INCLUDING CATEGORIES OF USERS AND THE PURPOSES OF SUCH USES:

* * * * *

[CHANGE THE SECOND INTRODUCTORY PARAGRAPH TO READ AS FOLLOWS.]

In accordance with an interagency agreement, as provided for in Office of Management and Budget (OMB) implementing guidelines (40 FR 28948), the DOJ may disclose records to the U.S. Department of Agriculture (USDA), National Finance Center (NFC), in order to effect all financial transactions on behalf of the DOJ related to employee pay.

* * * * *

[CORRECT ROUTINE USE C, TO READ AS FOLLOWS.]

C. To State and local courts of competent jurisdiction for the enforcement of child support, alimony, or both, pursuant to 42 U.S.C. 659.

* * * * *

[DELETE ROUTINE USE G AND SUBSTITUTE THE FOLLOWING ROUTINE USE.]

G. To appropriate agencies, entities, and persons when (1) The Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize or remedy such harm.

* * * * *

[DELETE THE GENERAL SERVICES ADMINISTRATION FROM ROUTINE USE O, TO READ AS FOLLOWS.]

O. To the National Archives and Records Administration for purposes of records management inspections conducted under the authority of 44 U.S.C. 2904 and 2906.

* * * * *

[FR Doc. E7-17754 Filed 9-7-07; 8:45 am]

BILLING CODE 4410-CP-P